DEPARTMENT OF COMMERCE

International Trade Administration

Notice of Rescission of Antidumping and Countervailing Duty Administrative Reviews; Correction

AGENCY: Enforcement and Compliance, International Trade Administration, Department of Commerce.

ACTION: Notice; correction.

SUMMARY: The U.S. Department of Commerce (Commerce) published a notice of rescission of antidumping and countervailing duty administrative reviews in the Federal Register of April 15, 2024, in which Commerce inadvertently placed the countervailing duty order Forged Steel Fittings from The People's Republic of China (C-570-068) under the header, “India” instead of the correct header, “The People's Republic of China.”

FOR FURTHER INFORMATION CONTACT: Brenda E. Brown, Office of AD/CVD Operations, Customs Liaison Unit, Enforcement and Compliance, International Trade Administration, U.S. Department of Commerce, 1401 Constitution Avenue NW, Washington, DC 20230, telephone: (202) 482-4735.

SUPPLEMENTARY INFORMATION:

Correction

In the Federal Register of April 15, 2024, in FR Doc. 2024-07856 at 89 FR 26126, the table should have included the countervailing duty order on Forged Steel Fittings from The People's Republic of China (C-570-068) and the period of review for 1/1/2023-12/31/2023 under the header, “The People's Republic of China.” This serves as a correction notice.

Notification to Interested Parties

This notice is issued and published in accordance with section(s) 751(a)(1) and 777(i)(1) of the Tariff Act of 1930, as amended, and 19 CFR 351.213(d)(4).

Dated: May 15, 2024.
James Maeder,
Deputy Assistant Secretary for Antidumping and Countervailing Duty Operations.

[FR Doc. 2024-11030 Filed 5-17-24; 8:45 am]

BILLING CODE 3510-DS-P